DEPARTMENT OF AGRICULTURE

Food and Nutrition Service

Agency Information Collection Activities: Proposed Collection: Comment Request: FNS-583, Employment and Training Program Activity Report

AGENCY: Food and Nutrition Service, USDA.

ACTION: Notice.

SUMMARY: In accordance with the Paperwork Reduction Act, this notice invites the general public and other public agencies to comment on a proposed revision in information collection for the FNS-583, Employment and Training Program Activity Report. The proposed revision affects the collection currently approved under OMB No. 0584-0339.

DATES: Written comments must be submitted on or before December 17, 2002.

ADDRESSES: Send comments and requests for copies of this information collection to John Knaus, Chief, Program Design Branch, Program Development Division, Food and Nutrition Service, U.S. Department of Agriculture, 3101 Park Center Drive, Alexandria, VA 22302.

Comments are invited on: (a) Whether the proposed revision is necessary for the proper performance of the functions of the agency, including whether the information will have practical utility; (b) the accuracy of the agency's estimate of burden of the proposed collection of information, including validity of the methodology and assumptions used; (c) ways to enhance the quality, utility, and clarity of the information to be collected; and (d) ways to minimize the burden of the collection of information on those who are to respond, including through the use of appropriate automated, electronic, mechanical, or other technological collection techniques or other form of information technology.

All responses to this notice will be summarized and included in the request for OMB approval. All comments will also become a matter of public record.

FOR FURTHER INFORMATION CONTACT: Micheal Atwell at (703) 305-2449, or send e-mail to micheal_atwell@fns.usda.gov via the Internet.

SUPPLEMENTARY INFORMATION: Title of Information Collection: FNS-583, Employment and Training Program Activity Report.

OMB Number: 0584-0339.

Expiration Date: December 31, 2004.

Type of Request: Revision of a currently approved collection.

Abstract: Title 7 CFR 273.7(c)(6) requires State agencies to submit quarterly Employment and Training (E&T) Program Activity Reports containing monthly figures for participation in the program. The first quarter FNS-583 report includes the number of work-registered persons in a State as of October of the new fiscal year. On the fourth quarter FNS-583 report State agencies list the components of their E&T programs and the number of participants in each.

The currently approved FNS-583 report includes the number of participants newly work registered; work registrants exempted from the E&T Program; participants who volunteered and began an approved E&T component; E&T mandatory participants who began an approved E&T component; number of able-bodied adults without dependents (ABAWDs) exempted from the 3-month food stamp time limit under each State agency's 15 percent ABAWD exemption allowance; the number of filled and offered (unfilled) workfare slots in waived and unwaived geographic areas of the State; the number of filled and offered education and training slots in waived and unwaived geographic areas of the State; the amount of Federal 100 percent E&T funding spent on workfare slots that meet the requirements of Section 6(o)(2)(C) of the Food Stamp Act of 1977, as amended (the Act); and the amount of Federal 100 percent E&T funding spent on education and training slots that meet the requirements of section 6(o)(2)(B) of the Act.

On May 13, 2002, President Bush signed into law the Farm Bill—the Farm Security and Rural Investment Act of 2002 (Pub. L. 107-171). Title IV of the Farm Bill includes Section 4121, Employment and Training Program, which was effective upon enactment. Section 4121 includes several major revisions, one of which significantly affects the information collection on the FNS-583 by eliminating the maximum reimbursement rates for offering and filling qualifying education/training and workfare opportunities for ABAWDs (slot rates). Thus, the information reporting the numbers of filled and offered education/training slots and workfare slots in waived and unwaived geographic areas is no longer required. Additionally, we are taking this opportunity to further revise and streamline the FNS-583 report by condensing, combining, or eliminating other information collection requirements.

Reporting Burden:

Frequency: The FNS-583 report must be completed and submitted to FNS on a quarterly basis by the 45th day following the end of the quarter.

Affected Public: State governments.

Number of Respondents: 53.

Number of Responses: 212.

Estimated Time per Response: 138 hours per State agency.

Estimated Total Annual Reporting Burden: 29,216 hours.

Recordkeeping Burden:

Number of Respondents: 53.

Number of Records: 212.

Number of Hours Per Record: 0.137 hours.

Estimated Total Annual Recordkeeping burden: 29 hours.

Total Annual Reporting and Recordkeeping Burden: 29,245 hours.

Dated: October 9, 2002.
Roberto Salazar,
Administrator, Food and Nutrition Service.

[FR Doc. 02-26566 Filed 10-17-02; 8:45 am]

BILLING CODE 3410-30-P